DEPARTMENT OF COMMERCE

National Oceanic and Atmospheric Administration

[I.D. 111704C]

North Pacific Fishery Management Council; Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings December 6 through December 14, 2004 at the Anchorage Hilton Hotel, Anchorage, AK.

DATES: The Council's Advisory Panel will begin at 8 a.m., Monday, December 6 and continue through Saturday December 11, 2004. The Scientific and Statistical Committee will begin at 8 a.m. on Monday, December 6, 2004, and continue through Wednesday, December 8, 2004.

The Council will begin its plenary session at 8 a.m. on Wednesday, December 8 and continuing through Tuesday December 14. All meetings are open to the public except executive sessions. The Enforcement Committee will meet Tuesday, December 7 from 1 p.m. to 5 p.m.

ADDRESSES: The meeting will be held at the Anchorage Hilton Hotel, 500 West 3rd Avenue, Anchorage, AK.

Council address: North Pacific Fishery Management Council, 605 W. 4th Avenue, Suite 306, Anchorage, AK 99501-2252.

FOR FURTHER INFORMATION CONTACT: Council staff, telephone: 907-271-2809.

SUPPLEMENTARY INFORMATION: Council Plenary Session: The agenda for the Council's plenary session will include the following issues. The Council may take appropriate action on any of the issues identified.

1. Reports

Executive Director's Report

National Marine Fisheries Service Management Report

Enforcement Report

Coast Guard Report

Alaska Department of Fish & Game Report (and review of proposals to Board of Fisheries)

U.S. Fish & Wildlife Service Report

Protected Species Report (Review MMPA listing proposed rule

2. Crab Rationalization: Review proposed rule and comment.

3. Gulf of Alaska Groundfish (GOA) Rationalization: Receive report from Community Committee, refine alternatives and options for analysis.

4. GOA Rockfish Demonstration Project: Review available information and take action as necessary.

5. Essential Fish Habitat (EFH) and Habitat Area Particular Concern (HAPC): Review Alternative 5B options analysis; and finalize alternatives. Review HAPC Process, and consider revisions as necessary. Update on proposed Dixon Entrance HAPC area, action as necessary.

6. Improved Retention/Improved Utilization (IR/IU): Finalize alternatives and options, and revise problem statement for Amendment 80.

7. Observer Program: Preliminary review of analysis of program restructuring.

8. Halibut/Sablefish Individual Fishing Quotas (IFQs) Program: Report from IFQ implementation Team and consider initiating amendments. Final Action on 4C/4D amendment. Final action on omnibus regulatory amendments.

9. Halibut Subsistence: Final action on omnibus regulatory amendment.

10. Pacific Cod Allocation: Review background paper and develop problem statement and alternatives.

11. Groundfish Management: Aleutian Island Special Management Area, review preliminary discussion paper. Bering Sea Aleutian Island Salmon Bycatch, develop problem statement and alternatives. Review rockfish management discussion paper (T). Receive report from Non-Target Species Committee. Final groundfish specifications for Gulf of Alaska. Final groundfish specifications for Bering Sea Aleutian Islands. Final action on FMP updates.

12. Staff Tasking: Review tasking and Committee and initiate action as appropriate.

13. Other Business.

Scientific and Statistical Committee (SSC): The SSC agenda will include the following issues:

1. EFH and HAPC

2. Groundfish Management

3. Observer Program

Advisory Panel: The Advisory Panel will address the same agenda issues as the Council.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: November 18, 2004.
Alan D. Risenhoover,
Acting Director, Office of Sustainable Fisheries, National Marine Fisheries Service.

[FR Doc. E4-3290 Filed 11-22-04; 8:45 am]

BILLING CODE 3510-22-S